DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Projects for Assistance in Transition From Homelessness (PATH) Program Annual Report (OMB No. 0930-0205)—Revision

The Center for Mental Health Services awards grants each fiscal year to each of the States, the District of Columbia, the Commonwealth of Puerto Rico, the Virgin Islands, Guam, American Samoa, and the Commonwealth of the Northern Mariana Islands from allotments authorized under the PATH program established by Public Law 101-645, 42 U.S.C. 290cc-21 et seq., the Stewart B. McKinney Homeless Assistance Amendments Act of 1990 (section 521 et seq. of the Public Health Service (PHS) Act). Section 522 of the PHS Act requires that the grantee States and Territories must expend their payments under the Act solely for making grants to political subdivisions of the State, and to non-profit private entities (including community-based veterans' organizations and other community organizations) for the purpose of providing services specified in the Act. Available funding is allotted in accordance with the formula provision of section 524 of the PHS Act.

This submission is for a revision of the current approval of the annual grantee reporting requirements. Section 528 of the PHS Act specifies that not later than January 31 of each fiscal year, a funded entity will prepare and submit a report in such form and containing such information as is determined necessary for securing a record and description of the purposes for which amounts received under section 521 were expended during the preceding fiscal year and of the recipients of such amounts and determining whether such amounts were expended in accordance with statutory provisions.

The proposed changes to the PATH Annual Report Survey are as follows:

1. Format

To create a PATH report that is easier to read, the formatting has been modified to be more table driven. In addition, the language has been made more concise. Although the online form and report is close in flow to the previous report, it is necessary to thoroughly read all reporting instructions to insure proper data entry.

2. Estimated Counts

The new PATH report does not include entry of estimated counts. Only actual counts should be entered.

3. Homelessness Management Information System (HMIS) Data Integration

The Data section of the report is expected to be propagated from the local HMIS when providers use HMIS. This includes client counts, services, referrals, and demographics. This data will be automatically aggregated from client-level data.

4. Demographic Responses

In order to facilitate integration of PATH data into HMIS, all data responses have been modified to fully align with valid HMIS responses. For example, the “Hispanic” response has been separated from “Race” and placed in “Ethnicity.”

5. Additional Data Items

The PATH report now tracks demographic data for persons contacted, as well as those enrolled. For services and referrals, in addition to gathering the number of enrolled persons receiving the service or referral, there is a total count of the number of times that particular service was provided or referral made.

6. Voluntary Outcome Measures

The data previously entered as voluntary outcome measures has now been moved to the referral section of the report and are no longer considered “voluntary.”

The estimated annual burden for these reporting requirements is summarized in the table below.

Respondents | Number of respondents | Responses/ respondent | Burden per response (hrs.) | Total burden
States | 56 | 1 | 19 | 1,064
Local provider agencies | 503 | 1 | 34 | 17,102
Total | 559 |  |  | 18,166

Written comments and recommendations concerning the proposed information collection should be sent by October 29, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-23788 Filed 9-26-12; 8:45 am]

BILLING CODE 4162-20-P